Title 3—

The President

Proclamation 9774 of August 24, 2018

Women's Equality Day, 2018

By the President of the United States of America

A Proclamation

On Women's Equality Day, we commemorate the ratification of the 19th Amendment to the Constitution, which secured for women the right to vote. The anniversary of this milestone is an appropriate time to reflect on the remarkable accomplishments of women in every facet of American life. It is also an opportunity to honor women for their leadership in service to their families, their communities, and the Nation.

In the same spirit of the 19th Amendment, we must continue to seek an environment of opportunity for all women. My Administration, therefore, continues to support the advancement of women throughout our country. The economy is growing and increasing opportunities to work and thrive as a result of our economic policies, including the enactment of the Tax Cuts and Jobs Act and the elimination of unnecessary and burdensome regulations. The unemployment rate for women has recently reached a 65-year low. We also fought for working parents by securing a doubling of the child tax credit, the creation of the dependent care credit, and the largest ever expansion of the child and dependent care credit. These family-friendly reforms will give much-needed financial relief to hardworking parents. Additionally, my Administration recognizes the challenges faced by mothers in the workplace due to lack of paid leave and affordable, high-quality childcare. That is why my budget this year, as it did last year, includes a national paid parental leave program. We continue to call on the Congress to enact such a program into law to help women thrive in the labor force and provide for their families. Further, we are working to enhance access to education and training in science, technology, engineering, and mathematics for the next generation of women pursuing careers in these fields.

Today, we celebrate the passion and unwavering dedication of the women who struggled and persevered in the fight for suffrage, and we recognize the countless ways that women strengthen the fabric of the Nation. We all benefit from the leadership and ingenuity of women in education, medicine, government, law, business, military service, and every other field contributing to the greatness of this Nation.

NOW, THEREFORE, I, DONALD J. TRUMP, President of the United States of America, by virtue of the authority vested in me by the Constitution and the laws of the United States, do hereby proclaim August 26, 2018, as Women's Equality Day. I call upon the people of the United States to celebrate the achievements of women and observe this day with appropriate programs and activities.

IN WITNESS WHEREOF, I have hereunto set my hand this twenty-fourth day of August, in the year of our Lord two thousand eighteen, and of the Independence of the United States of America the two hundred and forty-third.

[FR Doc. 2018-18928

Filed 8-28-18; 11:15 am]

Billing code 3295-F8-P